DEPARTMENT OF LABOR

Employment and Training Administration

[TA-W-52,591]

Kentucky Derby Hosiery, Lynne Finishing Plant 6, Mount Airy, NC; Notice of Termination of Investigation

Pursuant to section 221 of the Trade Act of 1974, as amended, an investigation was initiated on August 18, 2003 in response to a worker petition filed on behalf of workers at Kentucky Derby Hosiery, Lynne Finishing Plant 6, Mount Airy, North Carolina.

The petitioner has requested that the petition be withdrawn. Consequently, the investigation has been terminated.

Signed at Washington, DC this 4th day of September 2003.
Richard Church,
Certifying Officer, Division of Trade Adjustment Assistance.

[FR Doc. 03-27935 Filed 11-5-03; 8:45 am]

BILLING CODE 4510-30-P